DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and Title 30 of the Code of Federal Regulations Part 44 govern the application, processing, and disposition of petitions for modification. This notice is a summary of petitions for modification submitted to the Mine Safety and Health Administration (MSHA) by the parties listed below.

DATES: All comments on the petitions must be received by MSHA's Office of Standards, Regulations, and Variances on or before May 1, 2017.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2016-036-C.

Petitioner: Pennyrile Energy, LLC, 7386 State Route 593, Calhoun, KY 42327.

Mine: Riveredge Mine, MSHA I.D. No. 15-19424, located in McLean County, Kentucky.

Regulation Affected: 30 CFR 75.1700 (Oil and gas wells).

Modification Request: The petitioner requests a modification of the existing standard to mine through oil and gas wells in all mineable coal beds.

(a) As an alternative to leaving 300 feet in diameter coal barriers, the petitioner proposes the following procedures for District Manager (DM) approval:

(1) A safety barrier of 300 feet in diameter (150 feet between any mined area and a well) will be maintained around all oil and gas wells (to include all active, inactive, abandoned, shut-in, and previously plugged wells, and including water injection wells) until approval to proceed with mining has been obtained from the DM.

(2) Prior to mining within the safety barrier around any well, the mine operator will provide the DM a sworn affidavit or declaration executed by a company official stating that all mandatory procedures for cleaning out, preparing, and plugging each oil or gas well has been completed as described by the terms and conditions of this petition.

(b) The petitioner proposes the following procedures for cleaning out and preparing oil and gas wells prior to plugging or replugging:

(1) Completely clean out the well from the surface to at least 200 feet below the base of the lowest mineable coal seam, unless the DM requires cleaning to a greater depth based on his judgment as to what is required due to the geological strata or due to the pressure within the well. Provide the DM all information concerning the geological nature of the strata and the pressure of the well and remove all material from the entire diameter of the well, wall to wall.

(2) Prepare down-hole logs for each well. The logs will consist of a caliper survey and log(s) suitable for determining the top, bottom, and thickness of all coal seams and potential hydrocarbon-producing strata and the location for a bridge plug. The DM may approve the use of a down-hole camera survey in lieu of down-hole logs. In addition, a journal will be maintained describing the depth and nature of each material encountered; bit size and type used to drill each portion of the hole; length and type of each material used to plug the well; length of casing(s) removed, perforated, or ripped or left in place; any sections where casing was cut or milled; and other pertinent information concerning cleaning and sealing the well. Invoices, work-orders, and other records related to all work on the well will be maintained as part of the journal and provided to MSHA on request.

(3) When clearing out the well, make a diligent effort to remove all of the casing, and take appropriate steps to ensure the annulus between the casing and between the casings and the well are filled with expanding cement (minimum 0.5 percent expansion upon setting) and contain no voids. If the casing cannot be removed, the petitioner will cut or mill it at all mineable coal seam levels and perforate or rip it at least every 50 feet from 200 feet below the base of the lowest mineable coal seam up to 100 feet above the uppermost mineable coal seam. Any casing that remains will be perforated or ripped. If it can be demonstrated to the DM using a casing bond log that all annuli in the well are already adequately sealed with cement, the petitioner will not be required to perforate or rip the casing for that particular well. When multiple casing and tubing strings are present in the coal horizon(s), the petitioner will perforate or rip any casing that remains and fill with expanding cement and keep an acceptable casing bond log for each casing and tubing string used in lieu of ripping or perforating multiple strings.

(4) If the DM concludes that the completely cleaned-out well is emitting excessive amounts of gas, a mechanical bridge plug must be placed in the well. The plug must be placed in a competent stratum at least 200 feet below the base of the lowest mineable coal seam, but above the top of the upper most hydrocarbon-producing stratum, unless the DM requires a greater distance based on his or her judgment that it is within the well. If it is not possible to set a mechanical bridge plug, an appropriately sized packer may be used.

(5) The petitioner will properly place mechanical bridge plugs to isolate the hydrocarbon-producing stratum from the expanding cement plug, if the uppermost hydrocarbon-producing stratum is within 300 feet of the base of the lowest mineable coal seam. A minimum of 200 feet of expanding cement will be placed below the lowest mineable coal seam, unless the DM requires a greater distance based on his or her judgment that it is required due to the geological strata or due to the pressure within the well.

(c) After completely cleaning out the well, the petitioner proposes the following procedures for plugging or replugging oil or gas wells to the surface:

(1) The operator will pump expanding cement slurry down the well to form a plug that runs from at least 200 feet below the base of the lowest mineable coal seam to the surface. The expanding cement will be placed in the well under pressure of at least 200 pounds per square inch. Portland cement or a lightweight cement mixture may be used to fill the area from 100 feet above the top of the uppermost mineable coal seam to the surface.

(2) The operator will embed steel turnings or other small magnetic particles in the top of the cement near the surface to serve as a permanent magnetic monument of the well. In the alternative, a 4.5 inch or larger casing, set in cement, will extend at least 36 inches above the ground level with the API well number engraved or welded on the casing. When the hole cannot be marked with a physical monument (i.e. prime farmland), high-resolution GPS coordinates (one-half meter resolution) are required.

(d) The petitioner proposes the following procedures after approval has been granted by the DM to mine within the safety barrier, or to mine through a plugged or replugged well:

(1) Prior to mining through a well, notify the DM and the miners' representative in sufficient time for them to have a representative present.

(2) Install drivage sights at the last open crosscut near the place to be mined to ensure intersection of the well.

(3) Ensure firefighting equipment, including fire extinguishers, rock dust, and sufficient fire hose to reach the working face area of the mine-through is available and operable during all well mine-through. The fire hose will be located in the last open crosscut of the entry or room. Maintain the water line to the belt conveyor tailpiece along with a sufficient amount of fire hose to reach the farthest point of penetration of the section.

(4) Keep available at the last open crosscut a sufficient supply of roof support and ventilation materials. In addition, emergency plugs and suitable sealing materials will be available in the immediate area of the well intersection.

(5) Service all equipment and check permissibility on the shift before mining through the well.

(6) Calibrate the methane monitors on the continuous mining machines on the shift before mining through the well.

(7) When mining is in progress, test methane levels with a hand-held methane detector at least every 10 minutes from the time the mining with that continuous mining machine is within 30 feet of the well until the well is intersected and immediately before mining through it. During the actual cutting process, no individual will be allowed on the return side until the mine-through has been completed and the area has been examined and declared safe.

(8) Keep the working place free from accumulations of coal dust and coal spillages, and place rock dust on the roof, rib, and floor to within 20 feet of the face when mining through the well when using continuous mining machines.

(9) Deenergize all equipment when the well is intersected and thoroughly examine and determine the area is safe before mining is resumed.

(10) After a well has been intersected and the working place determined safe, continue mining inby the well at a distance sufficient to permit adequate ventilation around the area of the well.

(11) If the casing is cut or milled at the coal seam level, the use of torches would not be necessary. However, in rare instances, torches may be used for inadequately or inaccurately cut or milled casings. No open flames will be permitted in the area until adequate ventilation has been established around the wellbore and methane levels of less than 1.0 percent are present in all areas that will be exposed to flames and sparks from the torch. The operator will apply a thick layer of rock dust to the roof, face, floor ribs and any exposed coal within 20 feet of the casing before using any torches.

(12) Non-sparking (brass) tools will be located on the working section and will be used to expose and examine cased wells.

(13) No person will be permitted in the area of the mine-through operation except those actually engaged in the operation, including company personnel, miners' representatives, MSHA personnel, and personnel from the appropriate State agency.

(14) Alert all personnel in the mine to the planned intersection of the well prior to their going underground if the planned intersection is to occur during their shift. This warning will be repeated for all shifts until the well has been mined through.

(15) A certified individual will directly supervise the mine-through operation and only that certified individual in charge will issue instructions concerning the mine-through operation. MSHA personnel may interrupt or halt the mine-through operation when it is necessary for miners' safety.

A copy of the approved petition will be maintained at the mine and be available to the miners.

Within 30 days after this proposed decision and order (PDO) becomes final, the petitioner will submit proposed revisions for its approved part 48 training plan to the DM. These revisions will include initial and refresher training regarding compliance with the terms and conditions stated in the PDO. The petitioner will provide training to all miners involved in the mine-through of a well regarding the requirements of the PDO before mining within 150 feet of the next well to be mined through.

Within 30 days after the PDO becomes final, the petitioner will submit proposed revisions for its approved mine emergency evacuation and firefighting plan required by 30 CRFR 75.1501. The petitioner will revise the plans to include the hazards and evacuation procedures to be used for well intersections. All underground miners will be trained in this revised plan within 30 days of the DM's approval of the revised evacuation plan.

The petitioner asserts that the proposed alternative method will provide a measure of protection greater than the existing standard to all miners at the Riveredge Mine.

Sheila McConnell,
Director, Office of Standards, Regulations, and Variances.

[FR Doc. 2017-06340 Filed 3-30-17; 8:45 am]

BILLING CODE 4520-43-P